DEPARTMENT OF THE INTERIOR

Bureau of Land Management

[AZ-956-09-1420-00]

Arizona State Office, 222 North Central Avenue, Phoenix, Arizona 85004, Arizona; Notice of Filing of Plats of Survey

January 9, 2002.

1. The plats of survey of the following described land were officially filed in the Arizona State Office, Phoenix, Arizona, on the dates indicated:

A plat representing the dependent resurvey of a portion of the south and east boundaries and a portion of the subdivisional lines and the subdivision of sections 25 and 36, Township 22 North, Range 5 East, of the Gila and Salt River Meridian, Arizona, accepted November 26, 2001 and officially filed December 6, 2001.

This plat was prepared at the request of the United States Forest Service.

A plat representing the dependent resurvey of a portion of the south boundary and a portion of the subdivisional lines and the subdivision of sections 30 and 31, Township 22 North, Range 6 East, of the Gila and Salt River Meridian, Arizona, accepted November 26, 2001 and officially filed December 6, 2001.

This plat was prepared at the request of the Unites States Forest Service.

A plat representing the dependent resurvey of a portion of the subdivisional lines and a metes-and-bounds survey in section 19, Township 16 North, Range 9 East, of the Gila and Salt River Meridian, Arizona, accepted November 30, 2001 and officially filed December 6, 2001.

This plat was prepared at the request of the United States Forest Service.

A plat representing the dependent resurvey of a portion of the north boundary and a portion of the subdivisional lines and the subdivision of sections 3 and 9, Township 23 South, Range 20 East, of the Gila and Salt River Meridian, Arizona, accepted November 30, 2001 and officially filed December 6, 2001.

This plat was prepared at the request of the Bureau of Land Management, Arizona State Office.

These plats will immediately become the basic records for describing the land for all authorized purposes. These plats have been placed in the open files and are available to the public for information only.

2. All inquiries relating to these lands should be sent to the Arizona State Office, Bureau of Land Management, 222 N. Central Avenue, P.O. Box 1552, Phoenix, Arizona 85001-1552.

Kenny D. Ravnikar,
Chief Cadastral Surveyor of Arizona.

[FR Doc. 02-4154 Filed 2-20-02; 8:45 am]

BILLING CODE 4310-32-P